DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. No. 92-463, 86 Stat. 770) requires that public notice of this meeting be announced in the Federal Register.

DATES: Thursday, September 4, 2008, 9 a.m.-5 p.m.; Friday, September 5, 2008, 8:30 a.m.-4 p.m.

ADDRESSES: Double Tree Guest Suites, 16500 South Center Parkway, Seattle, Washington 98199, Phone: (206) 575-8220, Fax: (206) 575-4743.

FOR FURTHER INFORMATION CONTACT: Erik Olds, Federal Coordinator, Department of Energy Richland Operations Office, 2440 Stevens Drive, P.O. Box 450, H6-60, Richland, WA, 99352; Phone: (509) 372-8656; or E-mail: Theodore_E_Erik_Olds@orp.doe.gov.

SUPPLEMENTARY INFORMATION: Purpose of the Board: The purpose of the Board is to make recommendations to DOE in the areas of environmental restoration, waste management, and related activities.

Tentative Agenda

• Annual Agency Updates (Department of Energy Office of River Protection and Richland Operations Office; Washington State Department of Ecology; and the U.S. Environmental Protection Agency)

• Discussion on Board Work Priorities from Hanford Advisory Board (HAB) Leadership Retreat and Adoption of Work Priorities

• Update on Tri-Party Agreement Negotiations

• Discussion of letter to Assistant Secretary Rispoli regarding the HAB's acceptance of the new “Memorandum of Understanding among the U.S. Department of Energy, the Environmental Protection Agency, and the Washington State Department of Ecology Regarding the HAB” and “Operating Ground Rules for the HAB”

• Announcement of Committee Leadership (including nominations for Board Chair)

• Introduction of the new contracts and/or contractors

• Committee Updates, including: Tank Waste Committee; River and Plateau Committee; Health, Safety and Environmental Protection Committee; Public Involvement Committee; and Budgets and Contracts Committee

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling Erik Olds' office at the address or phone number listed above. Minutes will also be available at the following Web site: http://www.hanford.gov/?page=413&parent=397.

Issued at Washington, DC, on August 5, 2008.
Rachel Samuel,
Deputy Committee Management Officer.

[FR Doc. E8-18301 Filed 8-7-08; 8:45 am]

BILLING CODE 6450-01-P